DEPARTMENT OF THE INTERIOR

Bureau of Land Management

[NV-050-5853-ES; N-65825]

Notice of Realty Action: Change of Use for Recreation and Public Purposes Lease/Conveyance

AGENCY: Bureau of Land Management, Interior.

ACTION: Recreation and Public Purposes lease/conveyance change of use.

SUMMARY: Clark County, Nevada proposes to change the use on 40.87 acres of public land in Las Vegas, Nevada from a fire station and training facility to a fire station, Regional Park and Clark County Family Services building.

FOR FURTHER INFORMATION CONTACT: Beth Domowicz, BLM Realty Specialist, SCEP, (702) 515-5147.

SUPPLEMENTARY INFORMATION: The following described public land in Las Vegas, Clark County, Nevada was segregated on October 20, 1999 for lease/conveyance under provisions of the Recreation and Public Purposes (R&PP) Act, as amended (43 U.S.C. 869 et seq.).

N-65825—Clark County proposes a change of use on the following public lands:

Mount Diablo Meridian, Nevada

T. 21 S., R. 62 E., Sec. 2: Lot 15.

Consisting of 40.87 acres

This public land was previously classified and segregated for Recreation and Public Purposes under FR, Volume 64, No. 212, page 59789, on Wednesday, November 3, 1999. The change of use from a fire station and fire training facility to a fire station, Regional Park and Clark County Family Services building is consistent with the uses authorized under the Recreation and Public Purposes Act. The change of use is consistent with current Bureau planning for this area and would be in the public interest.

Interested parties may submit comments regarding the proposed change of use for the public lands to the Field Manager, Las Vegas Field Office, 4701 N. Torrey Pines Drive, Las Vegas, Nevada 89130 until March 14, 2005.

Classification Comments: Given that the public lands were previously classified for Recreation and Public Purposes, comments pertaining to classification will not be accepted.

Application Comments: Interested parties may submit comments regarding the specific use proposed in the application and plan of development, whether the BLM followed proper administrative procedures in reaching the decision or any other factor not related to the suitability of the public land for the proposed facilities. Any adverse comments will be reviewed by the State Director who may sustain, vacate, or modify this Realty action. In the absence of any adverse comments, the classification of the public land described in the Notice will become effective on March 29, 2005. The lands will not be offered for lease/conveyance until after the classification becomes effective.

Dated: December 27, 2005.
Sharon DiPinto,
Assistant Field Manager, Division of Lands.

[FR Doc. 05-1601 Filed 1-27-05; 8:45 am]

BILLING CODE 4310-HC-P